DEPARTMENT OF THE INTERIOR

National Park Service

Notice of Inventory Completion: Anthropological Studies Center, Archaeological Collections Facility, Sonoma State University, Rohnert Park, CA

AGENCY: National Park Service, Interior.

ACTION: Notice.

Notice is here given in accordance with the Native American Graves Protection and Repatriation Act (NAGPRA), 25 U.S.C. 3003, of the completion of an inventory of human remains in the possession and control of the Anthropological Studies Center, Archaeological Collections Facility, Sonoma State University, Rohnert Park, CA. The human remains were removed from Marin and Sonoma Counties, CA.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the Archaeological Collections Facility staff in consultation with representatives of the Dry Creek Rancheria of Pomo Indians of California; Elem Indian Colony of Pomo Indians of the Sulphur Bank Rancheria, California; Federated Indians of Graton Rancheria, California; Kashia Band of Pomo Indians of the Stewarts Point Rancheria, California; Middletown Rancheria of Pomo Indians of California; and Tuolumne Band of the Me-Wuk Indians of the Tuolumne Rancheria of California.

In April of 1977, human remains representing a minimum of one individual were removed from CA-SON-290 near Bodega, CA, during archaeological testing and mapping conducted prior to construction of a housing development. The human remains were accessioned and have been housed at the Archaeological Collections Facility since that time (accession #77-03). No known individual was identified. No associated funerary objects are present.

Analysis of artifacts found at site CA-SON-290 indicate an occupation during the Historic period (A.D. 1579 to present). The location of CA-SON-290 corresponds with the historic Miwok village of Súwutene.

In 1978, human remains representing a minimum of one individual were removed from CA-MRN-484 in Peacock Gap, Marin County, CA, during test investigations conducted prior to the construction of a housing subdivision. The human remains were accessioned by the Archaeological Collections Facility accession #78-03). No known individual was identified. No associated funerary objects are present.

The human remains date to prehistoric times and are Native American; however, the exact age is unknown. The site is within the traditional territory of the Coast Miwok.

In 1979, human remains representing a minimum of one individual were removed from CA-SON-1048, Sebastopol, Sonoma County, CA, during an excavation by the Anthropological Studies Center, conducted for the Sonoma County Department of Public Works. Remains identified as human at the time were re-buried on the site at the time of discovery. In 1997, during a NAGPRA inventory, human remains thought to be associated with this individual were identified in museum collections (accession #79-04). No known individual was identified. No associated funerary objects are present.

The human remains date to prehistoric times and are Native American; however, the exact age is unknown. The site is within the traditional territory of the Coast Miwok.

At an unknown time, human remains representing a minimum of two individuals were removed from CA-MRN-365, Marin County, CA. The human remains were donated to the Archaeological Collections Facility in 1984 or 1985 by the Marin Museum of the American Indian. It is now known when or under what circumstances the donor obtained the collection. No known individuals were identified. No associated funerary objects are present.

The human remains date to prehistoric times and are Native American; however, the exact age is unknown. The site is within the traditional territory of the Coast Miwok.

At an unknown date, human remains representing a minimum of one individual were removed from CA-MRN-502, Novato, Marin County, CA. In 1992, the human remains were donated to the Archaeological Collections Facility by Steve Dietz. It is not known when or under what circumstances the donor obtained the collection. The collection has been housed at the Archaeological Collections Facility since its donation. No known individual was identified. No associated funerary objects are present.

The human remains date to prehistoric times and are Native American; however the exact age is unknown. The site is within the traditional territory of the Coast Miwok.

In 1980, human remains representing a minimum of one individual were removed from CA-MRN-503, Marin County, CA, during a survey by the anthropological Studies Center conducted by Barry Price. The human remains have been held at the Archaeological Collections Facility since that time, but were not accessioned into the collection. No known individual was identified. No associated funerary objects are present.

The presence of bedrock mortars at the site indicates a site occupation during the Middle Period (B.C. 3000-B.C. 1000) and Late Period (1000 B.C.-A.D. 500). The human remains date to prehistoric times based on archeological context, however, the exact age and identity is unknown. The site is within the traditional territory of the Coast Miwok.

In 1998, the Archaeological Collections Facility, Sonoma State University determine that while there was evidence of a shared group identity (cultural affiliation) between the human remains and a particular Indian group, the human remains were “culturally unidentifiable” since the particular Indian group, the Federal Coast Miwok, was not recognized as an Indian tribe by the United States at that time. The Archaeological Collections Facility requested that the Native American Graves Protection and Repatriation Review Committee recommend disposition of the human remains to the Federated coast Miwok. On May 21, 1999, the Review Committee's Designated Federal Officer, writing on behalf of the Secretary of the Interior, recommended disposition of the human remains to the Federal Coast Miwok once concurrence with the proposal was obtained from federally recognized Indian tribes that currently resided in the immediate vicinity of where the human remains were recovered. Officials of the Archaeological Collections Facility, Sonoma State University consulted with five federally recognized Indian tribes: Dry Creek Rancheria of Pomo Indians of California; Elem Indian Colony of Pomo Indians of the Sulphur Bank Rancheria, California; Kashia Band of Pomo Indians of the Stewarts Point Rancheria, California; Middletown Rancheria of Pomo Indians of California; and Tuolumne Band of the Me-Wuk Indians of the Tuolumne Rancheria of California. All five tribes supported the Federated Coast Miwok request for disposition. In 2000, the Federated Coast Miwok became the federally recognized Federated indians of Graton Rancheria, California. Descendants of the Coast Miwok are members of the Federated Indians of Graton Rancheria, California.

Officials of the Archaeological Collections Facility, Sonoma State University have determined that, pursuant to 25 U.S.C. 3001 (9-10), the human remains described above represent the physical remains of seven individuals of Native American ancestry. Officials of the Archaeological Collections Facility, Sonoma State University also have determined that, pursuant to 25 U.S.C. 3001 (2), a relationship of shared group identity can be reasonably traced between the Native American human remains and the Federated Indians of Graton Rancheria, California.

Representatives of any other Indian tribe that believes itself to be culturally affiliated with the human remains should contact Erica Gibson, NAGPRA Project Coordinator, Anthropological Studies Center Archaeological Collections Facility, Sonoma State University, Rohnert Park, CA 94929, telephone (707) 664-2015, before July 5, 2007. Repatriation of the human remains to the Federated Indians of Graton Rancheria, California may proceed after that date if no additional claimants come forward.

The Archaeological Collections Facility, Sonoma State University is responsible for notifying the Dry Creek Rancheria of Pomo Indians of California; Elem Indian Colony of Pomo Indians of the Sulphur Bank Rancheria, California; Federated Indians of Graton Rancheria, California; Kashia Band of Pomo Indians of the Stewarts Point Rancheria, California; Middletown Rancheria of Pomo Indians of California; and Tuolumne Band of the Me-Wuk Indians of the Tuolumne Rancheria of California that this notice has been published.

Dated: May 9, 2007.
Sherry Hutt,
Manager, National NAGPRA Program.

[FR Doc. 07-2770 Filed 6-1-07; 8:45 am]

BILLING CODE 4312-50-M